DEPARTMENT OF JUSTICE

Notice of Lodging of Proposed Consent Decree Under the Comprehensive Environmental Response, Compensation and Liability Act and Proposed Stipulation, Settlement Agreement and Order Under the Federal Debt Collection Procedure Act and The Federal Priority Act

Notice is hereby given that on April 25, 2012, a proposed Consent Decree in United States v. the Atlas-Lederer Company, et al., Civil Action No. C-3-91-309, and a proposed Stipulation, Settlement Agreement and Order in United States v. Larry Katz, et al., Civil Action No. 3:05-cv-0058, were lodged with the United States District Court for the Southern District of Ohio.

In Atlas-Lederer, the United States sought reimbursement of response costs in connection with the United Scrap Lead Superfund Site in Troy, Miami County, Ohio (“the Site”). The Consent Decree resolves the United States' claims against a defunct scrap metal company, Senser Metal Company, and its deceased owner and operator, Saul Senser, under Section 107(a) of the Comprehensive Environmental Response, Compensation and Liability Act (“CERCLA”), 42 U.S.C. 9607(a), as well as resolves the United States' claim against Mr. Senser under Ohio “veil piercing” law. This is an “ability-to-pay” settlement based on financial analyses conducted by the Department's Antitrust Corporate Finance Unit. Senser Metal and Mr. Senser's Estate (represented by Kenneth Senser as the Executor the Estate of Saul Senser) will pay the United States $279,750 within 30 days of entry of the Consent Decree. The Consent Decree also resolves the United Scrap Lead Respondent Group's (“Respondent Group”) CERCLA claims against Senser Metal Company for response costs incurred by the Respondent Group in cleaning up the Site under an earlier Consent Decree. The settling Senser defendants will pay the Respondent Group $21,500 within 30 days of entry of the Consent Decree.

In Katz, the United States filed suit against Mr. Senser and other defendants seeking to recover funds under the Federal Debt Collection Procedures Act, 28 U.S.C. 3006 and 3307, and the Federal Priority Act, 31 U.S.C. 3713(a). In its complaint, the United States alleged, among other things, that Mr. Senser liquidated the assets of Senser Metal Company and fraudulently diverted a portion of the proceeds to himself. To resolve this claim, the Estate of Saul Senser, together with Kenneth Senser in his capacity as Executor of the Estate, will pay the United States $279,750 within 30 days of entry of the Stipulation, Settlement Agreement and Order.

The Department of Justice will receive for a period of thirty (30) days from the date of this publication comments relating to the settlement embodied in the proposed Consent Decree and the proposed Stipulation, Settlement Agreement and Order. Comments should be addressed to the Assistant Attorney General, Environment and Natural Resources Division, and either emailed to pubcomment-ees.enrd@usdoj.gov or mailed to P.O. Box 7611, U.S. Department of Justice, Washington, DC 20044-7611, and should refer to United States v. the Atlas-Lederer Company, et al., D.J. Ref. 90-11-3-279B and or United States v. Larry Katz, et al., D.J. Ref. 90-11-3-279/4.

The proposed Consent Decree and the proposed Stipulation, Settlement Agreement and Order may be examined at the Office of the United States Attorney, Southern District of Ohio, Federal Building Room 602, 200 West Second Street, Dayton, Ohio, and at U.S. EPA Region 5, 77 West Jackson Boulevard, Chicago, Illinois 60604. During the public comment period, both documents may also be examined on the following Department of Justice Web site: http://www.usdoj.gov/enrd/Consent_Decrees.html. A copy of the proposed Consent Decree and the proposed Stipulation, Settlement Agreement and Order may also be obtained by mail from the Consent Decree Library, P.O. Box 7611, U.S. Department of Justice, Washington, DC 20044-7611 or by faxing or emailing a request to “Consent Decree copy” (EESCDCOPY.ENRD@usdoj.gov), fax no. (202) 514-0097, phone confirmation number (202) 514-5271. If requesting a copy from the Consent Decree Library by mail, please enclose a check in the amount of $9.25 (25 cents per page reproduction cost) payable to the U.S. Treasury or, if by email or fax, forward a check in that amount to the Consent Decree Library at the stated address.

Karen Dworkin,
Assistant Chief, Environmental Enforcement Section, Environment and Natural Resources Division.

[FR Doc. 2012-10588 Filed 5-1-12; 8:45 am]

BILLING CODE 4410-15-P